DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Regional Economic Data Collection Program for Southwest Alaska.

OMB Control Number: 0648-xxxx.

Form Number(s): None.

Type of Request: Regular (request for a new information collection).

Number of Respondents: 1,602.

Average Hours per Response: 45 minutes.

Burden Hours: 600.

Needs and Uses: This request is for a new information collection.

Regional or community economic analysis of proposed fishery management policies is required by the Magnuson-Stevens Fishery Conservation and Management Act, National Environmental Policy Act, and Executive Order 12866, among others. To satisfy these mandates and inform policymakers and the public of the likely regional economic impacts associated with fishery management policies, appropriate economic models and the data to implement them are needed. Much of the data required for regional economic analysis of Southwest Alaska fisheries are either unavailable or unreliable. Accurate fishery-level data on employment, labor income, and expenditures in the Southwest Alaska fishery and related industries are not generally available but are needed to estimate the role of fisheries and effects of fishery policies on local, regional and national economies. The Southwest region for this survey includes six boroughs and census areas (BCAs)—Aleutians East Borough, Aleutians West Census Area, Bristol Bay Borough, Dillingham Census Area, Lake and Peninsula Borough, and Kodiak Island Borough.

In 2007-2008, a similar data collection project was administered for the Southwest Alaska region by obtaining 2006 annual data. However, that data is now outdated and incomplete. In the proposed survey, 2013 or 2014 annual data for important regional economic variables will be collected from fish harvesting and seafood processing businesses operating in the region (2012 data on these variables will be collected if more recent vessel landings and processed products data are not available at the time the data collection begins). The data will be used to develop Southwest regional and BCA-level models that will provide more reliable impact estimates and significantly improve policymakers' ability to assess effects on fishery-dependent communities in Southwest Alaska. A departure from the prior survey effort is that more information will be collected this time on the source locations of business expenditures by catcher vessels and seafood processors. The survey will be conducted one time only.

A mail survey will be used to collect data on employment, labor income, and expenditures from owners of 2,731 catcher vessels whose boats delivered fish to Southwest Alaska processors. Key informant interviews will be conducted to gather additional information from 30 seafood processors, including catcher-processor and floating processor vessels, and 20 local businesses that supply inputs to regional fish harvesters and seafood processors. The interviews will be used to determine relative expenditures for inputs made in nine geographical areas—(1) each of the six BCAs within the Southwest region, (2) non-Southwest Alaska region, (3) West Coast, and (4) the rest of US and elsewhere. Personal interviews with input suppliers will gather additional information on (i) the level of supplier sales to regional seafood industry businesses, and (ii) the portion of business expenditures for labor and non-labor inputs that were made in each of the above nine geographical areas.

Affected Public: Business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 3, 2015.
Sarah Brabson,
NOAA PRA Clearance Officer.

[FR Doc. 2015-22708 Filed 9-9-15; 8:45 am]

BILLING CODE 3510-22-P